SMALL BUSINESS ADMINISTRATION

[Declaration of Economic Injury Disaster #9V09]

State of Pennsylvania

Forest County and the contiguous counties of Clarion, Elk, Jefferson, McKean, Venango and Warren in the State of Pennsylvania constitute an economic injury disaster loan area as a result of a fire that occurred on March 23, 2003 in the Borough of Tionesta. Eligible small businesses and small agricultural cooperatives without credit available elsewhere may file applications for economic injury assistance as a result of this disaster until the close of business on January 29, 2004 at the address listed below or other locally announced locations: U.S. Small Business Administration, Disaster Area 1 Office, 360 Rainbow Blvd, South 3rd Floor, Niagara Falls, NY 14303.

The interest rate for eligible small businesses and small agricultural cooperatives is 3.189 percent. The number assigned for economic injury for this disaster is 9V0900

(Catalog of Federal Domestic Assistance Program No. 59002).
Dated: April 29, 2003.
Hector V. Barreto,
Administrator.

[FR Doc. 03-10991 Filed 5-2-03; 8:45 am]

BILLING CODE 8025-01-P